ENVIRONMENTAL PROTECTION AGENCY

[EPA-HQ-OPP-2020-0025; FRL-10010-60]

Pesticide Emergency Exemptions; Agency Decisions and State and Federal Agency Crisis Declarations

AGENCY: Environmental Protection Agency (EPA).

ACTION: Notice.

SUMMARY: EPA has granted emergency exemptions under the Federal Insecticide, Fungicide, and Rodenticide Act (FIFRA) for use of pesticides as listed in this notice. The exemptions were granted during the period October 1, 2019 through June 30, 2020 to control unforeseen pest outbreaks.

FOR FURTHER INFORMATION CONTACT: Marietta Echeverria, Registration Division (7505P), Office of Pesticide Programs, Environmental Protection Agency, 1200 Pennsylvania Ave. NW, Washington, DC 20460-0001; main telephone number: (703) 305-7090; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed at the end of the emergency exemption.

B. How can I get copies of this document and other related information?

The docket for this action, identified by docket identification (ID) number EPA-HQ-OPP-2020-0025, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805.

Due to the public health concerns related to COVID-19, the EPA Docket Center (EPA/DC) and Reading Room is closed to visitors with limited exceptions. The staff continues to provide remote customer service via email, phone, and webform. For the latest status information on EPA/DC services and docket access, visit https://www.epa.gov/dockets.

II. Background

EPA has granted emergency exemptions to the following State and Federal agencies. The emergency exemptions may take the following form: Crisis, public health, quarantine, or specific.

Under FIFRA section 18 (7 U.S.C. 136p), EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are emergency exemptions issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption, the type of exemption, the pesticide authorized and the pests, the crop or use for which authorized, number of acres (if applicable), and the duration of the exemption. EPA also gives the Federal Register citation for the time-limited tolerance, if any.

III. Emergency Exemptions

A. U.S. States and Territories

Alabama

Department of Agriculture and Industries

Specific exemptions: EPA authorized the use of dinotefuran on a maximum of 175 acres of fuzzy kiwifruit fields to control brown marmorated stink bug. A time-limited tolerance in connection with this action has been established in 40 CFR 180.603(b); Effective April 25, 2020 to October 31, 2020.

EPA authorized the use of fenpropathrin on a maximum of 175 acres of fuzzy kiwifruit fields to control brown marmorated stink bug. A time-limited tolerance in connection with this action has been established in 40 CFR 180.466(b); Effective April 25, 2020 to October 31, 2020.

California

Department of Pesticide Regulation

Specific exemption: EPA authorized the use of kasugamycin on a maximum of 100,000 acres of almond trees to control bacterial blast (Pseudomonas syringae pv. syringae). A time-limited tolerance in connection with this action will be established in 40 CFR 180.614(b) in almond and almond hulls to cover any residues that may result from this use. Effective February 14, 2020 to April 15, 2020.

EPA authorized the use of methoxyfenozide on a maximum of 100,000 acres of rice to control armyworm (Mythimna unipuncta) and Western Yellowstriped Armyworm (Spodoptera praefica). A time-limited tolerance in connection with this action has been established in 40 CFR 180.544(b). Effective April 20, 2020 to October 4, 2020.

EPA authorized the use of bifenthrin on a maximum of 18,000 acres of pomegranates to control leaffooted plant bug. A time-limited tolerance in connection with this action has been established in 40 CFR 180.442(b). Effective July 11, 2020 to December 31, 2020.

Quarantine exemption: EPA authorized the use of streptomycin on up to 23,000 acres of citrus to manage citrus greening disease (also known as Huanglongbing). Time-limited tolerances in connection with past actions for this use have been established in 40 CFR 180.24(b). Effective April 4, 2020 to April 4, 2021.

Florida

Department of Agriculture and Consumer Services

Specific exemptions: EPA authorized the use of streptomycin on up to 330,254 acres of citrus to manage citrus greening disease (also known as Huanglongbing). Time-limited tolerances in connection with past actions for this use have been established in 40 CFR 180.245(b). Effective December 31, 2019 to December 31, 2020.

EPA authorized the use of the insecticide clothianidin on a maximum of 125,376 acres of immature (3 to 5 years old) citrus trees to control the Asian citrus psyllid, the vector of citrus greening disease (also known as Huanglongbing) to manage disease transmission. A time-limited tolerance in connection with this action was established in 40 CFR 180.586(b). Effective January 1, 2020 to October 31, 2020.

Georgia

Department of Agriculture

Specific exemption: EPA authorized the use of flupyradifurone on a maximum of 200 acres of sweet sorghum (forage and syrup) to control sugarcane aphid. A time-limited tolerance in connection with this action has been established in 40 CFR 180.679(b). Effective June 18, 2020 to November 15, 2020.

Idaho

Department of Agriculture

Specific exemption: EPA authorized the use of the herbicide pyridate on a maximum of 9,500 acres of mint for postemergence control of herbicide-resistant annual weeds such as redroot pigweed, Amaranthus retroflexus and other broadleaf weeds. Tolerances in connection with an earlier registration action are established in 40 CFR 180.462(a). Effective May 21, 2020 to August 31, 2020.

Indiana

Office of the Indiana State Chemist

Specific exemption: EPA authorized the use of herbicide pyridate on a maximum of 11,200 acres of mint for postemergence control of herbicide-resistant annual weeds such as redroot pigweed, Armaranthus retroflexus and other broadleaf weeds. Tolerances in connection with an earlier registration action are established in 40 CFR 180.462(a). Effective May 21, 2020 to August 31, 2020.

Kentucky

Department of Agriculture

Specific exemption: EPA authorized the use of flupyradifurone on a maximum of 1,500 acres of sweet sorghum (forage and syrup) to control sugarcane aphid. A time-limited tolerance in connection with this action has been established in 40 CFR 180.679(b). Effective April 6, 2020 to November 15, 2020.

Maryland

Department of Agriculture

Specific exemptions: EPA authorized the use of bifenthrin on a maximum of 3,570 acres of apples, peaches, and nectarines to control the brown marmorated stinkbug. Time-limited tolerances in connection with past actions were established in 40 CFR 180.442(b). Effective May 21, 2020 to October 15, 2020.

Massachusetts

Department of Agricultural Resources

Specific exemption: EPA authorized the use of pronamide on a maximum of 5,000 acres of cranberries to control dodder. A time-limited tolerance in connection with this action has been established in 40 CFR 180.679(b). Effective April 15, 2020 to June 30, 2020.

Michigan

Department of Agriculture and Rural Development

Specific exemption: EPA authorized the use of the herbicide pyridate on a maximum of 1,250 acres of mint for postemergence control of herbicide-resistant annual weeds such as redroot pigweed, Armaranthus retroflexus and other broadleaf weeds. Tolerances in connection with an earlier registration action are established in 40 CFR 180.462(a). Effective May 21, 2020 to August 31, 2020.

Nevada

Department of Agriculture

Specific exemption: EPA authorized the use of indaziflam on a maximum of 100,000 acres of rangeland, pastures and conservation reserve program areas to control medusahead and Ventenata. Time-limited tolerances in connection with this action have been established in 40 CFR 180.653(b). Effective March 28, 2020 to March 26, 2021.

New York

Department of Environmental Conservation

Crisis exemption: EPA concurred upon crisis exemptions declared by the New York Department of Environmental Conservation (NYDEC) on March 16, 2020, for use of peroxyacetic acid and hydrogen peroxide to treat regulated medical waste to control the spread of coronavirus. NYDEC also submitted a full request for public health exemptions to allow the use to continue beyond the 15-day period allowed under stand-alone crisis exemptions. This use became effective on March 16, 2020 and will continue until EPA renders a decision on the public health exemption request.

Public Health Exemptions: EPA authorized the use of peroxyacetic acid and hydrogen peroxide to treat regulated medical waste potentially contaminated with the causal agent of COVID-19, the Severe Acute Respiratory Syndrome Coronavirus 2 (SARS-CoV-2). Effective May 28, 2020 to May 28, 2021.

North Carolina

Department of Agriculture and Consumer Services

Specific exemptions: EPA authorized the postharvest use of thiabendazole on a maximum of 95,000 acres of sweet potatoes to control black rot (Ceratocystis fimbriata). A time-limited tolerance in connection with this action has been established in 40 CFR 180.680(b). Effective April 3, 2020 to April 3, 2021.

EPA authorized the use of bifenthrin on a maximum of 3,000 acres of apples, peaches, and nectarines to control the brown marmorated stinkbug. Time-limited tolerances in connection with past actions were established in 40 CFR 180.442(b). Effective June 16, 2020 to October 15, 2020.

Oregon

Department of Agriculture

Specific exemption: EPA authorized the use of the herbicide pyridate on a maximum of 5,200 acres of mint for postemergence control of herbicide-resistant annual weeds such as redroot pigweed, Armaranthus retroflexus and other broadleaf weeds. Tolerances in connection with an earlier registration action are established in 40 CFR 180.462(a). Effective May 21, 2020 to August 31, 2020.

Pennsylvania

Department of Agriculture

Specific exemptions: EPA authorized the use of bifenthrin on a maximum of 24,974 acres of apples, peaches, and nectarines to control the brown marmorated stinkbug. Time-limited tolerances in connection with past actions were established in 40 CFR 180.442(b). Effective May 21, 2020 to October 15, 2020.

EPA authorized the use of etofenprox for use in mushroom houses on up to 16 million square feet (equivalent to 2,000 mushroom houses) to control Sciarid and Phorid fly species. Tolerances in connection with a previous action have been established in 40 CFR 180.620(a) to cover any residues as a result of this emergency exemption use. Effective June 24, 2020 to June 24, 2021.

South Dakota

Department of Agriculture

Specific exemption: EPA authorized the use of pyridate on a maximum of 910 acres of double-cut mint for postemergence control of herbicide-resistant annual weeds such as Redroot pigweed, Armaranthus retroflexus, common lambquarters, kochia and Russian thistle. Tolerances in connection with an earlier registration action are established in 40 CFR 180.462(a). Effective May 21, 2020 to August 31, 2020.

Texas

Department of Agriculture

Specific exemption: EPA authorized the use of clothianidin on a maximum of 4,000 acres of immature citrus trees to manage the transmission of Huanglongbing (HLB) disease vectored by the Asian citrus psyllid. A time-limited tolerance in connection with this action was established in 40 CFR 180.668(b). Effective May 7, 2020 to May 7, 2021.

Utah

Department of Agriculture

Specific exemption: EPA authorized the use of indaziflam on a maximum of 10,000 acres of rangeland, pastures and CRP to control medusahead and Ventenata. Time-limited tolerances in connection with a previous action have been established in 40 CFR 180.653(b). Effective February 1, 2020 to January 30, 2021.

Virginia

Department of Agriculture and Consumer Services

Specific exemption: EPA authorized the use of bifenthrin on a maximum of 29,000 acres of apples, peaches, and nectarines to control the brown marmorated stinkbug. Time-limited tolerances in connection with past actions were established in 40 CFR 180.442(b). Effective May 21, 2020 to October 15, 2020.

Washington

Department of Agriculture

Specific exemption: EPA authorized the use of the herbicide pyridate on a maximum of 16,000 acres of mint for postemergence control of herbicide-resistant annual weeds such as redroot pigweed, Amaranthus retroflexus and other broadleaf weeds. Tolerances in connection with an earlier registration action are established in 40 CFR 180.462(a). Effective May 21, 2020 to August 31, 2020.

West Virginia

Department of Agriculture

Specific exemption: EPA authorized the use of bifenthrin on a maximum of 5,986 acres of apples, peaches, and nectarines to control the brown marmorated stinkbug. Time-limited tolerances in connection with past actions were established in 40 CFR 180.442(b). Effective June 16, 2020 to October 15, 2020.

Wisconsin

Department of Agriculture

Specific exemption: EPA authorized the use of the herbicide pyridate on a maximum of 3,100 acres of mint for postemergence control of herbicide-resistant annual weeds such as redroot pigweed, Armaranthus retroflexus and other broadleaf weeds. Tolerances in connection with an earlier registration action are established in 40 CFR 180.462(a). Effective May 21, 2020 to August 31, 2020.

B. Federal Departments and Agencies

Agriculture Department

Animal and Plant Health Inspector Service

Quarantine exemptions: EPA authorized the use of a mixture of sodium hypochlorite and propylene glycol for use under freezing conditions on hard, nonporous surfaces associated with poultry facilities in the United States, for disinfection from Newcastle disease virus. Effective November 1, 2019 to November 1, 2022.

EPA authorized the use of a mixture of potassium peroxymonosulfate and propylene glycol for use under freezing conditions on hard, nonporous surfaces associated with poultry facilities in the United States, for disinfection from Newcastle disease virus. Effective December 4, 2019 to December 4, 2022.

EPA authorized the use of methyl bromide on post-harvest unlabeled imported/domestic commodities to prevent the introduction/spread of any new or recently introduced foreign pest(s) to any U.S. geographical location. Time-limited tolerances in connection with previous actions for this use have been established in 40 CFR 180.124(b). Effective March 1, 2020 to March 1, 2023.

Centers for Disease Control and Prevention

Public health exemptions: EPA authorized the uses of hydrogen peroxide, didecyl dimethyl ammonium chloride, isopropanol, ethanol, n-alkyl-dimethyl ethylbenzyl ammonium chloride, and n-alkyl dimethyl benzyl ammonium chloride, on hard, nonporous surfaces in health care settings in the United States to disinfect from Candida auris. Effective October 16, 2019 to October 16, 2020.

Authority: 7 U.S.C. 136 et seq.

Dated: September 24, 2020.
Marietta Echeverria,
Acting Director, Registration Division, Office of Pesticide Programs.

[FR Doc. 2020-22418 Filed 10-8-20; 8:45 am]

BILLING CODE 6560-50-P